DEPARTMENT OF DEFENSE

Department of the Army, Corps of Engineers

Environmental Impact Statement Withdrawal and Notice of Intent of an Environmental Assessment for the New York and New Jersey Harbor Anchorages General Reevaluation Report

AGENCY: U.S. Army Corps of Engineers, DoD.

ACTION: Notice of withdrawal of an environmental impact statement; notice of intent of an environmental assessment.

SUMMARY: In accordance with the National Environmental Policy Act (NEPA), on November 1, 2018, the Norfolk District, U.S. Army Corps of Engineers (Corps) initiated the Environmental Impact Statement (EIS) process to identify and analyze potential impacts associated with risk management measures as a part of the Federal feasibility study for the New York and New Jersey Harbor Anchorages. Currently, the Corps has identified a Tentatively Selected Plan (TSP) that includes a modification of a single anchorage within Gravesend Bay, expanding it to 3,600 feet and 50 feet in depth, to improve the safety and efficiency of port operations. Preliminary analysis of the TSP indicates no significant impacts are expected, therefore the Corps is terminating the EIS process and is withdrawing the Notice of Intent published in the Thursday, November 1, 2018 issue of the Federal Register. Instead, an Environmental Assessment (EA) will be prepared. It is anticipated that a draft of the integrated General Reevaluation Report and Environmental Assessment (GRR/EA) will be available for a 30-day public comment period beginning later in 2019.

ADDRESSES: Mr. David Schulte, Department of the Army, U.S. Army Corps of Engineers, Norfolk District, Fort Norfolk, 803 Front St., Norfolk, VA 23510 or via email: David.M.Schulte@usace.army.mil.

FOR FURTHER INFORMATION CONTACT: David Schulte, (757) 201-7007.

SUPPLEMENTARY INFORMATION: Applicable laws and regulations are section 102(2)(C) of the National Environmental Policy Act (NEPA) of 1969, as amended, 42 U.S.C. 4321-4370, as implemented by the Council on Environmental Quality Regulations (40 CFR parts 1500-1508). The primary problem is that existing Federal anchorages in the harbor are insufficient in meeting the variety of functions (ex. security and U.S. Coast Guard inspections, lightering, bunkering/refueling, waiting areas, and emergency “bailout” areas) they are used for as part of normal harbor operations, which reduces vessel safety and cargo transportation efficiency. Multiple issues have been identified by key harbor users and stakeholders. There is not enough anchorage area to accommodate all of the vessels that need to anchor for various reasons. The dimensions of existing anchorages cannot accommodate vessels larger than 1,100 foot LOA (length overall) which is a significant portion of the vessels that regularly call on the harbor and anchored vessels regularly swing out into the navigation channel. Vessels are currently forced to wait outside the harbor in the ocean due to a lack of anchorage availability and/or anchorage areas designed for larger vessels.

The Corps is the lead federal agency and the Port Authority of New York and New Jersey will be the non-federal sponsor for the study. The GRR will address the primary problem of the New York and New Jersey Harbor Anchorages by studying all reasonable alternatives and determine the Federal interest in cost-sharing for those alternatives. A TSP has been identified which involves the modification of a single anchorage at Gravesend Bay, increasing its size to 3,600 feet and 50 feet in depth from its present dimensions.

As required by Council on Environmental Quality's Principles, Requirements and Guidelines for Water and Land Related Resources Implementation Studies all reasonable alternatives to the proposed Federal action that meet the purpose and need will be considered in the EA. These alternatives will include no action and a range of reasonable alternatives for improving navigation in the New York & New Jersey Harbor Anchorages.

Scoping/Public Involvement. A public NEPA scoping meeting was held on November 8, 2018, from 5 p.m.-8 p.m. It was held at the GSA Building, conference rooms 1-3 on the 30th floor, at 290 Broadway, New York, NY 10007. Federal, state, and local agencies, Indian tribes, and the public were invited to provide scoping comments to identify issues and potentially significant effects to be considered in the analysis. Comments on the proposed project can still be accepted until the end of the 30-day public coordination period, which is expected to occur later in 2020. The draft GRR/EA will be made available for a 30-day public comment period that will be scheduled for later in 2019.

Dated: May 14, 2019.
David Schulte,
Regional Technical Specialist, USACE, Norfolk District.

[FR Doc. 2019-10571 Filed 5-20-19; 8:45 am]

BILLING CODE 3720-58-P